ENVIRONMENTAL PROTECTION AGENCY

[RCRA-2005-0003; FRL-7969-3]

Agency Information Collection Activities; Submission to OMB for Review and Approval; Comment Request; 2005 Hazardous Waste Report (Renewal), EPA ICR Number 0976.12, OMB Control Number 2050-0024

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on October 31, 2005. Under OMB regulations, the Agency may continue to conduct or sponsor the collection of information while this submission is pending at OMB. This ICR describes the nature of the information collection and its estimated burden and cost.

DATES: Additional comments may be submitted on or before October 17, 2005.

ADDRESSES: Submit your comments, referencing docket ID number RCRA-2005-0003, to (1) EPA online using EDOCKET (our preferred method), by e-mail to RCRA-docket@epa.gov, or by mail to: EPA Docket Center, Environmental Protection Agency, Resource Conservation and Recovery Docket and Information Center, mail code 5305T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Dave Levy, Office of Solid Waste, Office of Solid Waste and Emergency Response, Environmental Protection Agency, 1200 Pennsylvania Ave., NW., Washington, DC 20460; telephone number: 703-308-8479; fax number: 703-308-8433; e-mail address: levy.dave@epa.gov.

SUPPLEMENTARY INFORMATION: EPA has submitted the following ICR to OMB for review and approval according to the procedures prescribed in 5 CFR 1320.12. On March 9, 2005 (70 FR 11628), EPA sought comments on this ICR pursuant to 5 CFR 1320.8(d). EPA received one comment, and it is addressed in the Supporting Statement to this ICR in section 3(b).

EPA has established a public docket for this ICR under Docket ID No. RCRA-2005-0003, which is available for public viewing at the Resource Conservation and Recovery Docket and Information Center in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Resource Conservation and Recovery Docket and Information Center is (202) 566-0270. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: 2005 Hazardous Waste Report (Renewal).

Abstract: This ICR renews an ongoing information collection from hazardous waste generators and hazardous waste treatment, storage, or disposal facilities. This collection is done on a two-year cycle as required by sections 3002 and 3004 of RCRA. The information is collected via a mechanism known as the Hazardous Waste Report for the required reporting year (EPA Form 8700-13 A/B) (also known as the Biennial Report). Both RCRA sections 3002 and 3004 require EPA to establish standards for recordkeeping and reporting of hazardous waste generation and management. Section 3002 applies to hazardous waste generators and Section 3004 applies to hazardous waste treatment, storage, and disposal facilities. The implementing regulations are found at 40 CFR 262.40(b) and (d); 262.41(a)(1)-(5), (a)(8), and (b); 264.75(a)-(e) and (j); 265.75(a)-(e) and (j); and 270.30(l)(9). This is mandatory reporting by the respondents.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 18.26 hours per respondent. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: RCRA Subtitle C sites that generate, treat, store, recycle, or dispose of hazardous waste.

Estimated Number of Respondents: 9,106.

Frequency of Response: Biennially.

Estimated Total Annual Hour Burden: 166,297.

Estimated Total Annual Cost: $10,042,978, includes $0 Capital Expense, $29,597 O&M costs, and $10,013,381 Respondent Labor Costs.

Changes in the Estimates: There is a decrease of 30,679 hours in the total annual estimated burden currently identified in the OMB Inventory of Approved ICR Burdens. This change in burden has occurred for several reasons. Based on reported data for the 2003 Hazardous Waste Report, EPA estimates an 11 percent annual decrease of 1,072 in the total number of respondents (9,106) from the estimated annual number of respondents for the 2003 Hazardous Waste Report (10,178). EPA also believes the burden is decreased because more respondents are using electronic reporting methods, especially those submitting several forms. This decrease is expected to occur even though this smaller universe of respondents is estimated to submit 65,022 more forms annually, a 13 percent increase, than the estimated number of forms submitted for the 2003 Hazardous Waste Report (504,251). The respondents' use of electronic reporting also decreases the burden and cost of recordkeeping.

Dated: September 6, 2005.
Oscar Morales,
Director, Collection Strategies Division.

[FR Doc. 05-18349 Filed 9-14-05; 8:45 am]

BILLING CODE 6560-50-P